SECURITIES AND EXCHANGE COMMISSION

[File No. 500-1]

Eco Global Corporation, Execute Sports, Inc., FacePrint Global Solutions, Inc., FinancialContent, Inc., and Firstgold Corp.; Order of Suspension of Trading

January 16, 2013.

It appears to the Securities and Exchange Commission that there is a lack of current and accurate information concerning the securities of Eco Global Corporation because it has not filed any periodic reports since the period ended September 30, 2009.

It appears to the Securities and Exchange Commission that there is a lack of current and accurate information concerning the securities of Execute Sports, Inc. because it has not filed any periodic reports since the period ended September 30, 2008.

It appears to the Securities and Exchange Commission that there is a lack of current and accurate information concerning the securities of FacePrint Global Solutions, Inc. because it has not filed any periodic reports since the period ended June 30, 2007.

It appears to the Securities and Exchange Commission that there is a lack of current and accurate information concerning the securities of FinancialContent, Inc. because it has not filed any periodic reports since the period ended December 31, 2008.

It appears to the Securities and Exchange Commission that there is a lack of current and accurate information concerning the securities of Firstgold Corp. because it has not filed any periodic reports since the period ended October 31, 2009.

The Commission is of the opinion that the public interest and the protection of investors require a suspension of trading in the securities of the above-listed companies. Therefore, it is ordered, pursuant to Section 12(k) of the Securities Exchange Act of 1934, that trading in the securities of the above-listed companies is suspended for the period from 9:30 a.m. EST on January 16, 2013 through 11:59 p.m. EST on January 30, 2013.

By the Commission.
Jill M. Peterson,
Assistant Secretary.

[FR Doc. 2013-01151 Filed 1-16-13; 4:15 pm]

BILLING CODE 8011-01-P